INTERNATIONAL TRADE COMMISSION

[Investigations Nos. 701-TA-364 (Review) and 731-TA-711 and 713-716 (Review)]

Oil Country Tubular Goods From Argentina, Italy, Japan, Korea, and Mexico

Determinations

On the basis of the record ¹ developed in the subject five-year reviews, the United States International Trade Commission determines, pursuant to section 751(c) of the Tariff Act of 1930 (19 U.S.C. 1675(c)) (the Act), that revocation of the countervailing duty order on oil country tubular goods other than drill pipe from Italy, and the antidumping duty orders on oil country tubular goods other than drill pipe from Argentina, Italy, Japan, Korea, and Mexico would be likely to lead to continuation or recurrence of material injury to an industry in the United States within a reasonably foreseeable time. The Commission further determines ² that revocation of the antidumping duty order on drill pipe from Japan would be likely to lead to continuation or recurrence of material injury to an industry in the United States within a reasonably foreseeable time. The Commission also determines ³ that revocation of the antidumping duty orders on drill pipe from Argentina and Mexico would not be likely to lead to continuation or recurrence of material injury to an industry in the United States within a reasonably foreseeable time.

¹ The record is defined in sec. 207.2(f) of the Commission's Rules of Practice and Procedure (19 CFR § 207.2(f)).

² Vice Chairman Deanna Tanner Okun dissenting.

³ Commissioners Lynn M. Bragg and Dennis M. Devaney dissenting.

Background

The Commission instituted these reviews on July 3, 2000 (65 FR 41088) and determined on October 5, 2000, that it would conduct full reviews (65 FR 63889, October 25, 2000). Notice of the scheduling of the Commission's reviews and of a public hearing to be held in connection therewith was given by posting copies of the notice in the Office of the Secretary, U.S. International Trade Commission, Washington, DC, and by publishing the notice in the Federal Register on January 26, 2001 (66 FR 7941). The hearing was held in Washington, DC, on May 8, 2001, and all persons who requested the opportunity were permitted to appear in person or by counsel.

The Commission transmitted its determinations in these reviews to the Secretary of Commerce on June 28, 2001. The views of the Commission are contained in USITC Publication 3434 (June 2001), entitled Oil Country Tubular Goods from Argentina, Italy, Japan, Korea, and Mexico: Investigations Nos. 701-TA-364 (Review) and 731-TA-711 and 713-716 (Review).

Issued: July 3, 2001.
By order of the Commission.
Donna R. Koehnke,
Secretary.

[FR Doc. 01-17111 Filed 7-9-01; 8:45 am]

BILLING CODE 7020-02-P